DEPARTMENT OF COMMERCE

International Trade Administration

[C-570-175]

Certain Brake Drums From the People's Republic of China: Preliminary Affirmative Countervailing Duty Determination and Alignment of Final Determination With Final Antidumping Duty Determination

Correction

In notice document 2024-28238, appearing on pages 95744 through 95747 in the issue of Tuesday, December 3, 2024, make the following correction:

On page 95744, in the third column, in the DATES section, “February 3, 2024” should read “December 3, 2024”.

[FR Doc. C1-2024-28238 Filed 12-11-24; 8:45 am]

BILLING CODE 0099-10-D